DEPARTMENT OF HEALTH AND HUMAN SERVICES

Administration for Children and Families

Submission for (Office of Management and Budget (OMB) Review; Sexual Risk Avoidance Education Program Performance Analysis Study—Extension OMB #0970-0536)

AGENCY: Office of Planning, Research, and Evaluation, Administration for Children and Families, Department of Health and Human Services.

ACTION: Request for public comments.

SUMMARY: The Office of Planning, Research, and Evaluation (OPRE) and the Family and Youth Services Bureau in the Administration for Children and Families (ACF) request an extension without changes to a currently approved information collection activity as part of the Sexual Risk Avoidance Education (SRAE) Program Performance Analysis Study (PAS). The goal of the study is to collect, analyze, and report on performance measures data for the SRAE program (OMB Control No. 0970-0536; expiration date 12/31/2023). The purpose of the requested extension is to continue the ongoing data collection and submission of the performance measures by SRAE grantees. Materials under the submission will be updated to reflect only surveys currently in use.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: The purpose of the SRAE program is to educate youth on how to voluntarily refrain from nonmarital sexual activity and prevent other youth risk behaviors. Data will continue to be used to determine if the SRAE grantees are meeting performance benchmarks related to their program's mission and priorities.

The SRAE PAS collects performance measures data from SRAE grantees, program providers, and participants. The data include information on program structure, cost, and support for implementation; program attendance, reach, and dosage; the characteristics of youth involved in programming; youth sexual and other risky behavior prior to program participation; and youth sexual and other risky behavior intentions at program exit. The performance measures help the ACF program office and grantees to monitor and report on progress in implementing SRAE programs and inform technical assistance.

Some of the performance measures data come from youth participants through surveys SRAE grantees administer at program entry and exit. There are separate versions of the entry and exit surveys for middle school youth, which exclude some of the more sensitive items that are included in the versions for high school and older youth. There is also a shorter version of the entry survey for programs conducting impact studies, to reduce the burden on participants in those programs who are likely responding to other surveys as part of their impact study. Although there was a version of the exit survey for programs conducting impact studies in the past, youth in these programs complete the same version of the exit survey as other youth. As the shorter exit surveys are no longer in use, they will be removed through this request.

Respondents: General Departmental (GDSRAE), State (SSRAE), and Competitive (CSRAE) grantees, their subrecipients, and program participants.

Annual Burden Estimates
Instrument | Number of respondents (total over request period) | Number of responses per respondent (total over request period) | Avg. burden per response (in hours) | Total burden (in hours) | Annual burden (in hours)
(1) Participant Entry Survey
GDSRAE participants | 378,390 | 1 | 0.1333 | 50,439 | 16,813
SSRAE participants | 952,899 | 1 | 0.1333 | 127,021 | 42,340
CSRAE participants | 60,408 | 1 | 0.1333 | 8,052 | 2,684
(2) Participant Exit Survey
GDSRAE participants | 302,712 | 1 | 0.1667 | 50,462 | 16,821
SSRAE participants | 762,319 | 1 | 0.1667 | 127,079 | 42,360
CSRAE participants | 48,326 | 1 | 0.1667 | 8,056 | 2,685
(3) Performance reporting data entry form: grantees
GDSRAE grantees | 119 | 6 | 16 | 11,424 | 3,808
SSRAE grantees | 39 | 6 | 16 | 3,744 | 1,248
CSRAE grantees | 34 | 6 | 16 | 3,264 | 1,088
(4) Performance reporting data entry form: subrecipients
GDSRAE subrecipients | 252 | 6 | 13 | 19,656 | 6,552
SSRAE subrecipients | 426 | 6 | 13 | 33,228 | 11,076
CSRAE subrecipients | 63 | 6 | 13 | 4,914 | 1,638

Estimated Total Annual Burden Hours: 149,113.

Authority: 42 U.S.C 1310.

Mary B. Jones,
ACF/OPRE Certifying Officer.

[FR Doc. 2023-26791 Filed 12-5-23; 8:45 am]

BILLING CODE 4184-83-P